ENVIRONMENTAL PROTECTION AGENCY

40 CFR Part 52

[EPA-R10-OAR-2012-0356; FRL-9768-9]

Approval and Promulgation of Implementation Plans; State of Washington; Revised Format for Materials Incorporated by Reference

AGENCY: Environmental Protection Agency (EPA).

ACTION: Final rule; notice of administrative change.

SUMMARY: EPA is revising the format for materials submitted by the State of Washington that are incorporated by reference (IBR) into the Washington State Implementation Plan (SIP). The regulations affected by this format change have all been previously submitted by the State of Washington and approved by EPA. This format revision will primarily affect the “Identification of plan” section, as well as the format of the SIP materials that will be available for public inspection at the National Archives and Records Administration (NARA), the Air and Radiation Docket and Information Center located at EPA Headquarters in Washington, DC, and the EPA Regional Office. EPA is also adding a table in the “Identification of plan” section which summarizes the approval actions that EPA has taken on the non-regulatory and quasi-regulatory portions of the Washington SIP.

DATES: This action is effective April 19, 2013.

ADDRESSES: SIP materials which are incorporated by reference into 40 CFR part 52 are available for inspection at the following locations:

U.S. Environmental Protection Agency, Region 10, Office of Air, Waste, and Toxics (OAWT-107), 1200 Sixth Avenue, Seattle, Washington 98101;

Air and Radiation Docket and Information Center, EPA Headquarters Library, Infoterra Room (Room Number 3334), EPA West Building, 1301 Constitution Ave. NW., Washington, DC 20460; and

National Archives and Records Administration (NARA).

If you wish to obtain materials from a docket in the EPA Headquarters Library, please call the Office of Air and Radiation (OAR) Docket/Telephone number: 202-566-1742. For information on the availability of this material at NARA, call 202-741-6030, or go to: http://www.archives.gov/federal-register/cfr/ibr-locations.html.

FOR FURTHER INFORMATION CONTACT: Jeff Hunt, EPA Region 10, (206) 553-0256, hunt.jeff@epa.gov.

SUPPLEMENTARY INFORMATION: Throughout this document, wherever “we”, “us” or “our” are used, we mean EPA. Information is organized as follows:

Table of Contents

I. Background

A. What a SIP Is

B. How EPA Enforces SIPs

C. How the State and EPA Updates the SIP

D. How EPA Compiles the SIPs

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Statutory and Executive Order Review

I. Background

A. What a SIP Is

Each State has a SIP containing the control measures and strategies used to attain and maintain the national ambient air quality standards (NAAQS). The SIP is extensive, containing such elements as air pollution control regulations, emission inventories, monitoring network, attainment demonstrations, and enforcement mechanisms.

B. How EPA Enforces SIPs

Each state must formally adopt the control measures and strategies in the SIP after the public has had an opportunity to comment on them. They are then submitted to EPA as SIP revisions upon which EPA must formally act. Once these control measures and strategies are approved by EPA, after notice and comment, they are incorporated into the Federally approved SIP and are identified in part 52 (Approval and Promulgation of Implementation Plans), title 40 of the Code of Federal Regulations (40 CFR part 52). The actual state regulations approved by EPA are not reproduced in their entirety in 40 CFR part 52, but are “incorporated by reference” (IBR'd) which means that EPA has approved a given state regulation with a specific effective date. This format allows both EPA and the public to know which measures are contained in a given SIP and ensures that the state is enforcing the regulations. It also allows EPA and the public to take enforcement action, should a state not enforce its SIP-approved regulations.

C. How the State and EPA Updates the SIP

The SIP is a living document which the state can revise as necessary to address the unique air pollution problems in the state. Therefore, EPA must, from time to time, take action on SIP revisions containing new and/or revised regulations in order to make them part of the SIP. On May 22, 1997 (62 FR 27968), EPA revised the procedures for IBR'ing Federally-approved SIPs, as a result of consultations between EPA and the Office of the Federal Register (OFR).

EPA began the process of developing: (1) A revised SIP document for each state that would be IBR'd under the provisions of title 1 CFR part 51; (2) a revised mechanism for announcing EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

D. How EPA Compiles the SIPs

The Federally-approved regulations, source-specific permits, and nonregulatory provisions (entirely or portions of) submitted by each state agency have been compiled by EPA into a “SIP compilation.” The SIP compilation contains the updated regulations, source-specific permits, and nonregulatory provisions approved by EPA through previous rulemaking actions in the Federal Register.

E. How EPA Organizes the SIP Compilation

Each compilation contains three parts. Part one contains the regulations, part two contains the source-specific requirements that have been approved as part of the SIP, and part three contains nonregulatory provisions that have been EPA approved. Each part consists of a table of identifying information for each SIP-approved regulation, each SIP-approved source-specific permit, and each nonregulatory SIP provision. In this action, EPA is publishing the tables summarizing the applicable SIP requirements for Washington. The EPA Regional Offices have the primary responsibility for updating the compilations and ensuring their accuracy.

F. Where You Can Find a Copy of the SIP Compilation

EPA Region 10 developed and will maintain the compilation for Washington. A copy of the full text of Washington's regulatory and source-specific SIP compilation will also be maintained at NARA and EPA's Air Docket and Information Center.

G. The Format of the New Identification of Plan Section

In order to better serve the public, EPA revised the organization of the “Identification of Plan” section and included additional information to clarify the enforceable elements of the SIP. The revised Identification of Plan section contains five subsections:

1. Purpose and scope.

2. Incorporation by reference.

3. EPA-approved regulations and statutes.

4. EPA-approved source-specific permits.

5. EPA-approved nonregulatory and quasi-regulatory provisions such as air quality attainment plans, rate of progress plans, maintenance plans, monitoring networks, and small business assistance programs.

H. When a SIP Revision Becomes Federally Enforceable

All revisions to the applicable SIP become Federally enforceable as of the effective date of the revisions to paragraphs (c), (d), or (e) of the applicable Identification of Plan section found in each subpart of 40 CFR part 52.

I. The Historical Record of SIP Revision Approvals

To facilitate enforcement of previously approved SIP provisions and provide a smooth transition to the new SIP processing system, EPA retains the original Identification of Plan section, previously appearing in the CFR as the first or second section of part 52 for each state subpart. After an initial two-year period, EPA will review its experience with the new system and enforceability of previously approved SIP measures and will decide whether or not to retain the Identification of Plan appendices for some further period. Although EPA is retaining the original Identification of Plan section, other sections of part 52 are either duplicative of the new Identification of Plan section or out of date. EPA is therefore removing sections 52.2479 “Contents of the federally approved, State submitted implementation plan”, 52.2491 “Section 110(a)(2) infrastructure requirements”, and 52.2499 “Interstate Transport for the 1997 8-hour ozone and PM2.5 NAAQS” as part of the general “housekeeping” discussed below.

II. What EPA Is Doing in This Action

Today's rule constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 802(2). As stated previously, EPA has made such a good cause finding, including the reasons therefore, and established an effective date of March 20, 2013. EPA will submit a report containing this rule and other required information to the U.S. Senate, the U.S. House of Representatives, and the Comptroller General of the United States prior to publication of the rule in the Federal Register. The changes in format to the “Identification of plan” section for the State of Washington are not a `major rule' as defined by 5 U.S.C. 804(2).

C. Petitions for Judicial Review

EPA has also determined that the provisions of section 307(b)(1) of the Clean Air Act pertaining to petitions for judicial review are not applicable to this action. Prior EPA rulemaking actions for each individual component of the Washington SIP compilations had previously afforded interested parties the opportunity to file a petition for judicial review in the United States Court of Appeals for the appropriate circuit within 60 days of such rulemaking action. Thus, EPA sees no need in this action to reopen the 60-day period for filing such petitions for judicial review for these “Identification of plan” reorganization actions for Washington.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: December 17, 2012.
Dennis J. McLerran,
Regional Administrator, Region 10.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart WW—Washington

2. Section 52.2470 is redesignated as § 52.2477 and a new § 52.2470 is added to read as follows:

§ 52.2470 Identification of plan.

(a) Purpose and scope. This section sets forth the applicable State implementation plan for the State of Washington under section 110 of the Clean Air Act, 42 U.S.C. 7401-7671q and 40 CFR part 51 to meet national ambient air quality standards.

(b) Incorporation by reference.

(1) Material listed in paragraphs (c) and (d) of this section with an EPA approval date prior to December 7, 2012, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 7, 2012, will be incorporated by reference in the next update to the SIP compilation.

(2) EPA Region 10 certifies that the rules/regulations provided by EPA in the SIP compilation at the addresses in paragraph (b)(3) of this section are an exact duplicate of the officially promulgated State rules/regulations which have been approved as part of the State Implementation Plan as of December 7, 2012.

(3) Copies of the materials incorporated by reference may be inspected at the Region 10 EPA Office at 1200 Sixth Avenue, Seattle WA, 98101; the EPA, Air and Radiation Docket and Information Center, EPA Headquarters Library, Infoterra Room (Room Number 3334), EPA West Building, 1301 Constitution Ave. NW., Washington, DC; or the National Archives and Records Administration (NARA). For information on the availability of this material at NARA, call (202) 741-6030, or go to: http://www.archives.gov/federal-register/cfr/ibr-locations.html.

(c) EPA approved regulations and statutes.

Table 1—Washington Department of Ecology Regulations
State citation | Title/Subject | State effective date | EPA Approval date | Explanations
Washington Administrative Code, Chapter 173-400—General Regulations for Air Pollution Sources
173-400-010 | Policy and Purpose | 3/22/91 | 6/2/95, 60 FR 28726 |
173-400-020 | Applicability | 3/22/91 | 6/2/95, 60 FR 28726 |
173-400-030 | Definitions | 3/22/91 | 6/2/95, 60 FR 28726 |
173-400-040 | General Standards for Maximum Emissions | 3/22/91 | 6/2/95, 60 FR 28726 | except (1)(c), and (1)(d), (2), (4), and the 2nd paragraph of (6).
173-400-050 | Emission Standards for Combustion and Incineration Units | 3/22/91 | 6/2/95, 60 FR 28726 | except the exception provision in (3).
173-400-060 | Emission Standards for General Process Units | 3/22/91 | 6/2/95, 60 FR 28726 |
173-400-070 | Emission Standards for Certain Source Categories | 3/22/91 | 6/2/95, 60 FR 28726 | except (7).
173-400-081 | Startup and Shutdown | 9/20/93 | 6/2/95, 60 FR 28726 |
173-400-091 | Voluntary Limits on Emissions | 9/20/93 | 6/2/95, 60 FR 28726 | including all regulatory orders issued pursuant to this section.
173-400-100 | Registration | 9/20/93 | 6/2/95, 60 FR 28726 |
173-400-105 | Records, Monitoring and Reporting | 9/20/93 | 6/2/95, 60 FR 28726 |
173-400-107 | Excess Emissions | 9/20/93 | 6/2/95, 60 FR 28726 |
173-400-110 | New Source Review (NSR) | 9/20/93 | 6/2/95, 60 FR 28726 |
173-400-112 | Requirements for New Sources in Nonattainment Areas | 9/20/93 | 6/2/95, 60 FR 28726 | except (8).
173-400-113 | Requirements for New Sources in Attainment or Unclassifiable Areas | 9/20/93 | 6/2/95, 60 FR 28726 | except (5).
173-400-151 | Retrofit Requirements for Visibility Protection | 3/22/91 | 6/2/95, 60 FR 28726 |
173-400-161 | Compliance Schedules | 3/22/91 | 6/2/95, 60 FR 28726 |
173-400-171 | Public Involvement | 9/20/93 | 6/2/95, 60 FR 28726 |
173-400-190 | Requirements for Nonattainment Areas | 3/22/91 | 6/2/95, 60 FR 28726 |
173-400-200 | Creditable Stack Height & Dispersion Techniques | 3/22/91 | 6/2/95, 60 FR 28726 |
173-400-205 | Adjustment for Atmospheric Conditions | 3/22/91 | 6/2/95, 60 FR 28726 |
173-400-210 | Emission Requirements of Prior Jurisdictions | 3/22/91 | 6/2/95, 60 FR 28726 |
173-400-220 | Requirements for Board Members | 3/22/91 | 6/2/95, 60 FR 28726 |
173-400-230 | Regulatory Actions | 3/20/93 | 6/2/95, 60 FR 28726 |
173-400-240 | Criminal Penalties | 3/22/91 | 6/2/95, 60 FR 28726 |
173-400-250 | Appeals | 9/20/93 | 6/2/95, 60 FR 28726 |
173-400-260 | Conflict of Interest | 3/22/91 | 6/2/95, 60 FR 28726 |
Washington Administrative Code, Chapter 173-405—Kraft Pulp Mills
173-405-012 | Statement of Purpose | 3/22/91 | 1/15/93, 58 FR 4578 |
173-405-021 | Definitions | 3/22/91 | 1/15/93, 58 FR 4578 |
173-405-040 | Emissions Standards | 3/22/91 | 1/15/93, 58 FR 4578 | except for sections (1)(b), (1)(c), (3)(b), (3)(c), (4), (7), (8) & (9).
173-405-045 | Creditable Stack Height & Dispersion Techniques | 3/22/91 | 1/15/93, 58 FR 4578 |
173-405-061 | More Restrictive Emission Standards | 3/22/91 | 1/15/93, 58 FR 4578 |
173-405-072 | Monitoring Requirements | 3/22/91 | 1/15/93, 58 FR 4578 | except section (2).
173-405-077 | Report of Startup, Shutdown, Breakdown or Upset Conditions | 3/22/91 | 1/15/93, 58 FR 4578 |
173-405-078 | Emission Inventory | 3/22/91 | 1/15/93, 58 FR 4578 |
173-405-086 | New Source Review (NSR) | 3/22/91 | 1/15/93, 58 FR 4578 |
173-405-087 | Prevention of Significant Deterioration (PSD) | 3/22/91 | 1/15/93, 58 FR 4578 |
173-405-091 | Special Studies | 3/22/91 | 1/15/93, 58 FR 4578 |
Washington Administrative Code, Chapter 173-410—Sulfite Pulping Mills
173-410-012 | Statement of Purpose | 3/22/91 | 1/15/93, 58 FR 4578 |
173-410-021 | Definitions | 3/22/91 | 1/15/93, 58 FR 4578 |
173-410-040 | Emissions Standards | 3/22/91 | 1/15/93, 58 FR 4578 | except the exception provision in (3) & section (5).
173-410-045 | Creditable Stack Height & Dispersion Techniques | 3/22/91 | 1/15/93, 58 FR 4578 |
173-410-062 | Monitoring Requirements | 3/22/91 | 1/15/93, 58 FR 4578 |
173-410-067 | Report of Startup, Shutdown, Breakdown or Upset Conditions | 3/22/91 | 1/15/93, 58 FR 4578 |
173-410-071 | Emission Inventory | 3/22/91 | 1/15/93, 58 FR 4578 |
173-410-086 | New Source Review (NSR) | 3/22/91 | 1/15/93, 58 FR 4578 |
173-410-087 | Prevention of Significant Deterioration (PSD) | 3/22/91 | 1/15/93, 58 FR 4578 |
173-410-100 | Special Studies | 3/22/91 | 1/15/93, 58 FR 4578 |
Washington Administrative Code, Chapter 173-415—Primary Aluminum Plants
173-415-010 | Statement of Purpose | 3/22/91 | 1/15/93, 58 FR 4578 |
173-415-020 | Definitions | 3/22/91 | 1/15/93, 58 FR 4578 | except sections (1) & (2).
173-415-030 | Emissions Standards | 3/22/91 | 1/15/93, 58 FR 4578 | except sections (1) & (3)(b).
173-415-045 | Creditable Stack Height & Dispersion Techniques | 3/22/91 | 1/15/93, 58 FR 4578 |
173-415-050 | New Source Review (NSR) | 3/22/91 | 1/15/93, 58 FR 4578 |
173-415-051 | Prevention of Significant Deterioration (PSD) | 3/22/91 | 1/15/93, 58 FR 4578 |
173-415-060 | Monitoring and Reporting | 3/22/91 | 1/15/93, 58 FR 4578 | except sections (1)(a), (b), & (d).
173-415-070 | Report of Startup, Shutdown, Breakdown or Upset Conditions | 3/22/91 | 1/15/93, 58 FR 4578 |
173-415-080 | Emission Inventory | 3/22/91 | 1/15/93, 58 FR 4578 |
Washington Administrative Code, Chapter 173-422—Motor Vehicle Emission Inspection
173-422-010 | Purpose | 6/3/93 | 9/25/96, 61 FR 50235 |
173-422-020 | Definitions | 3/31/95 | 9/25/96, 61 FR 50235 |
173-422-030 | Vehicle Emission Inspection Requirement | 11/9/96 | 5/19/97, 62 FR 27204 |
173-422-031 | Vehicle Emission Inspection Schedules | 12/2/00 | 5/12/05, 70 FR 24491 |
173-422-035 | Registration Requirements | 3/31/95 | 9/25/96, 61 FR 50235 |
173-422-040 | Noncompliance Areas | 6/3/93 | 9/25/96, 61 FR 50235 |
173-422-050 | Emission Contributing Areas | 11/9/96 | 5/19/97, 62 FR 27204 |
173-422-060 | Gasoline Vehicle Emission Standards | 11/9/96 | 5/19/97, 62 FR 27204 |
173-422-065 | Diesel Vehicle Exhaust Emission Standards | 3/31/95 | 9/25/96, 61 FR 50235 |
173-422-070 | Gasoline Vehicle Exhaust Emission Testing Procedures | 11/9/96 | 5/19/97, 62 FR 27204 |
173-422-075 | Diesel Vehicle Inspection Procedure | 3/11/94 | 9/25/96, 61 FR 50235 |
173-422-090 | Exhaust Gas Analyzer Specifications | 3/31/95 | 9/25/96, 61 FR 50235 |
173-422-095 | Exhaust Opacity Testing Equipment | 3/11/94 | 9/25/96, 61 FR 50235 |
173-422-100 | Testing Equipment Maintenance and Calibration | 3/31/95 | 9/25/96, 61 FR 50235 |
173-422-120 | Quality Assurance | 3/31/95 | 9/25/96, 61 FR 50235 |
173-422-130 | Inspection Fees | 3/11/94 | 9/25/96, 61 FR 50235 |
173-422-145 | Fraudulent Certificates of Compliance/Acceptance | 4/6/90 | 9/25/96, 61 FR 50235 |
173-422-160 | Fleet and Diesel Owner Vehicle Testing Requirements | 3/31/95 | 9/25/96, 61 FR 50235 |
173-422-170 | Exemptions | 12/2/00 | 5/12/05, 70 FR 24491 |
173-422-175 | Fraudulent Exemptions | 1/2/84 | 9/25/96, 61 FR 50235 |
173-422-190 | Emission Specialist Authorization | 11/9/96 | 5/19/97, 62 FR 27204 |
173-422-195 | Listing of Authorized Emission Specialists | 3/31/95 | 9/25/96, 61 FR 50235 |
Washington Administrative Code, Chapter 173-425—Open Burning
173-425-010 | Purpose | 10/18/90 | 1/15/93, 58 FR 4578 |
173-425-020 | Applicability | 10/18/90 | 1/15/93, 58 FR 4578 |
173-425-030 | Definitions | 10/18/90 | 1/15/93, 58 FR 4578 |
173-425-036 | Curtailment During Episodes or Impaired Air Quality | 10/18/90 | 1/15/93, 58 FR 4578 |
173-425-045 | Prohibited Materials | 1/3/89 | 1/15/93, 58 FR 4578 |
173-425-055 | Exceptions | 10/18/90 | 1/15/93, 58 FR 4578 |
173-425-065 | Residential Open Burning | 10/18/90 | 1/15/93, 58 FR 4578 |
173-425-075 | Commercial Open Burning | 10/18/90 | 1/15/93, 58 FR 4578 |
173-425-085 | Agricultural Open Burning | 10/18/90 | 1/15/93, 58 FR 4578 |
173-425-095 | No Burn Area Designation | 10/18/90 | 1/15/93, 58 FR 4578 |
173-425-100 | Delegation of Agricultural Open Burning Program | 10/18/90 | 1/15/93, 58 FR 4578 |
173-425-115 | Land Clearing Projects | 10/18/90 | 1/15/93, 58 FR 4578 |
173-425-120 | Department of Natural Resources Smoke Management Plan | 10/18/90 | 1/15/93, 58 FR 4578 |
173-425-130 | Notice of Violation | 10/18/90 | 1/15/93, 58 FR 4578 |
173-425-140 | Remedies | 10/18/90 | 1/15/93, 58 FR 4578 |
Washington Administrative Code, Chapter 173-430—Burning of Field and Forage and Turf Grasses Grown for Seed Open Burning
173-430-010 | Purpose | 10/18/90 | 1/15/93, 58 FR 4578 |
173-430-020 | Definitions | 10/18/90 | 1/15/93, 58 FR 4578 |
173-430-030 | Permits, Conditions, and Restrictions | 10/18/90 | 1/15/93, 58 FR 4578 |
173-430-040 | Mobile Field Burners | 10/18/90 | 1/15/93, 58 FR 4578 |
173-430-050 | Other Approvals | 10/18/90 | 1/15/93, 58 FR 4578 |
173-430-060 | Study of Alternatives | 10/18/90 | 1/15/93, 58 FR 4578 |
173-430-070 | Fees | 10/18/90 | 1/15/93, 58 FR 4578 |
173-430-080 | Certification of Alternatives | 10/18/90 | 1/15/93, 58 FR 4578 |
Washington Administrative Code, Chapter 173-433—Solid Fuel Burning Device Standards
173-433-010 | Purpose | 12/16/87 | 1/15/93, 58 FR 4578 |
173-433-020 | Applicability | 12/16/87 | 1/15/93, 58 FR 4578 |
173-433-030 | Definitions | 10/18/90 | 1/15/93, 58 FR 4578 |
173-433-100 | Emission Performance Standards | 10/18/90 | 1/15/93, 58 FR 4578 |
173-433-110 | Opacity Standards | 10/18/90 | 1/15/93, 58 FR 4578 |
173-433-120 | Prohibited Fuel Types | 10/18/90 | 1/15/93, 58 FR 4578 |
173-433-130 | General Emission Standards | 10/18/90 | 1/15/93, 58 FR 4578 |
173-433-150 | Curtailment | 10/18/90 | 1/15/93, 58 FR 4578 |
173-433-170 | Retail Sales Fee | 1/3/89 | 1/15/93, 58 FR 4578 |
173-433-200 | Regulatory Actions and Penalties | 10/18/90 | 1/15/93, 58 FR 4578 |
Washington Administrative Code, Chapter 173-434—Solid Waste Incinerator Facilities
173-434-010 | Purpose | 10/18/90 | 1/15/93, 58 FR 4578 |
173-434-020 | Applicability and Compliance | 1/22/04 | 8/4/05, 70 FR 44855 |
173-434-030 | Definitions | 1/22/04 | 8/4/05, 70 FR 44855 |
173-434-090 | Operation and Maintenance Plan | 10/18/90 | 1/15/93, 58 FR 4578 |
173-434-110 | Standards of Performance | 1/22/04 | 8/4/05, 70 FR 44855 | except section (1)(a).
173-434-130 | Emission Standards | 1/22/04 | 8/4/05, 70 FR 44855 | except section (2).
173-434-160 | Design and Operation | 1/22/04 | 8/4/05, 70 FR 44855 |
173-434-170 | Monitoring and Reporting | 1/22/04 | 8/4/05, 70 FR 44855 |
173-434-190 | Changes in Operation | 1/22/04 | 8/4/05, 70 FR 44855 |
173-434-200 | Emission Inventory | 1/22/04 | 8/4/05, 70 FR 44855 |
173-434-210 | Special Studies | 10/18/90 | 1/15/93, 58 FR 4578 |
Washington Administrative Code, Chapter 173-435—Emergency Episode Plan
173-435-010 | Purpose | 1/3/89 | 1/15/93, 58 FR 4578 |
173-435-015 | Significant Harm Levels | 1/3/89 | 1/15/93, 58 FR 4578 |
173-435-020 | Definitions | 1/3/89 | 1/15/93, 58 FR 4578 |
173-435-030 | Episode Stage Criteria | 1/3/89 | 1/15/93, 58 FR 4578 |
173-435-040 | Source Emission Reduction Plans | 1/3/89 | 1/15/93, 58 FR 4578 |
173-435-050 | Action Procedures | 1/3/89 | 1/15/93, 58 FR 4578 |
173-435-060 | Enforcement | 1/3/89 | 1/15/93, 58 FR 4578 |
173-435-070 | Sampling Sites, Equipment and Methods | 1/3/89 | 1/15/93, 58 FR 4578 | except section (1).
Washington Administrative Code, Chapter 173-470—Ambient Air Quality Standards for Particulate Matter
173-470-010 | Purpose | 9/16/87 | 1/15/93, 58 FR 4578 |
173-470-020 | Applicability | 9/16/87 | 1/15/93, 58 FR 4578 |
173-470-030 | Definitions | 1/3/89 | 1/15/93, 58 FR 4578 |
173-470-100 | Ambient Air Quality Standards | 1/3/89 | 1/15/93, 58 FR 4578 |
173-470-160 | Reporting of Data | 9/16/87 | 1/15/93, 58 FR 4578 |
Washington Administrative Code, Chapter 173-490—Emission Standards and Controls for Sources Emitting Volatile Organic Compounds
173-490-010 | Policy and Purpose | 3/22/91 | 7/12/93, 58 FR 37426 |
173-490-020 | Definitions | 3/22/91 | 7/12/93, 58 FR 37426 |
173-490-025 | General Applicability | 3/22/91 | 7/12/93, 58 FR 37426 |
173-490-030 | Registration and Reporting | 3/22/91 | 7/12/93, 58 FR 37426 |
173-490-040 | Requirements | 3/22/91 | 7/12/93, 58 FR 37426 |
173-490-080 | Exceptions and Alternative Methods | 3/22/91 | 7/12/93, 58 FR 37426 |
173-490-090 | New Source Review (NSR) | 3/22/91 | 7/12/93, 58 FR 37426 |
173-490-200 | Petroleum Refinery Equipment Leaks | 3/22/91 | 7/12/93, 58 FR 37426 |
173-490-201 | Petroleum Liquid Storage in External Floating Roof Tanks | 3/22/91 | 7/12/93, 58 FR 37426 |
173-490-202 | Leaks from Gasoline Transport Tanks and Vapor Collection System | 3/22/91 | 7/12/93, 58 FR 37426 |
173-490-203 | Perchloroethylene Dry Cleaning Systems | 3/22/91 | 7/12/93, 58 FR 37426 |
173-490-204 | Graphic Arts System | 3/22/91 | 7/12/93, 58 FR 37426 |
173-490-205 | Surface Coating of Miscellaneous Metal Parts and Products | 3/22/91 | 7/12/93, 58 FR 37426 |
173-490-207 | Surface Coating of Flatwood Paneling | 3/22/91 | 7/12/93, 58 FR 37426 |
173-490-208 | Aerospace Assembly and Component Coating Operations | 3/22/91 | 7/12/93, 58 FR 37426 |
Washington Administrative Code, Chapter 173-492—Motor Fuel Specifications for Oxygenated Gasoline
173-492-010 | Policy and Purpose | 10/19/96 | 4/30/97, 62 FR 23363 |
173-492-020 | Applicability | 12/1/92 | 4/30/97, 62 FR 23363 |
173-492-030 | Definitions | 12/1/92 | 4/30/97, 62 FR 23363 |
173-492-040 | Compliance Requirements | 12/1/92 | 4/30/97, 62 FR 23363 |
173-492-050 | Registration Requirements | 10/19/96 | 4/30/97, 62 FR 23363 |
173-492-060 | Labeling Requirements | 12/1/92 | 4/30/97, 62 FR 23363 |
173-492-070 | Control Areas and Control Periods | 10/19/96 | 4/30/97, 62 FR 23363 |
173-492-080 | Enforcement and Compliance | 12/1/92 | 4/30/97, 62 FR 23363 |
173-492-090 | Unplanned Conditions | 12/1/92 | 4/30/97, 62 FR 23363 |
173-492-100 | Severability | 12/1/92 | 4/30/97, 62 FR 23363 |

Table 2—Energy Facilities Site Evaluation Council Regulations
State citation | Title/Subject | State effective date | EPA Approval date | Explanations
Washington Administrative Code, Chapter 463-39—General Regulations for Air Pollution Sources
463-39-005 | Adoption by Reference | 9/21/95 | 5/23/96, 61 FR 25791 | except sections (2), (3) & (4).
463-39-010 | Purpose | 5/3/92 | 5/23/96, 61 FR 25791 |
463-39-020 | Applicability | 9/21/95 | 5/23/96, 61 FR 25791 |
463-39-030 | Additional Definitions | 9/21/95 | 5/23/96, 61 FR 25791 |
463-39-095 | Permit Issuance | 9/21/95 | 5/23/96, 61 FR 25791 |
463-39-100 | Registration | 12/11/93 | 5/23/96, 61 FR 25791 |
463-39-120 | Monitoring and Special Report | 9/21/95 | 5/23/96, 61 FR 25791 |
463-39-135 | Criminal Penalties | 8/6/79 | 5/23/96, 61 FR 25791 |
463-39-170 | Conflict of Interest | 8/6/79 | 5/23/96, 61 FR 25791 |
463-39-230 | Regulatory Actions | 8/26/94 | 5/23/96, 61 FR 25791 |

Table 3—Northwest Clean Air Agency Regulations
State citation | Title/Subject | State effective date | EPA Approval date | Explanations
General Provisions
100 | Name of Authority | 9/8/93 | 2/22/95, 60 FR 9778 |
101 | Short Title | 9/8/93 | 2/22/95, 60 FR 9778 |
102 | Policy | 9/8/93 | 2/22/95, 60 FR 9778 |
103 | Duties & Powers | 9/8/93 | 2/22/95, 60 FR 9778 |
104 | Adoption of State/Federal Laws and Rules | 11/13/94 | 10/24/95, 60 FR 54439 | except section 104.2.
105 | Separability | 9/8/93 | 2/22/95, 60 FR 9778 |
106 | Public Records | 9/8/93 | 2/22/95, 60 FR 9778 |
110 | Investigation and Studies | 9/8/93 | 2/22/95, 60 FR 9778 |
111 | Interference or Obstruction | 9/8/93 | 2/22/95, 60 FR 9778 |
112 | False and Misleading Oral Statements | 9/8/93 | 2/22/95, 60 FR 9778 |
113 | Service of Notice | 9/8/93 | 2/22/95, 60 FR 9778 |
114 | Confidential Information | 9/8/93 | 2/22/95, 60 FR 9778 |
120 | Hearings | 9/8/93 | 2/22/95, 60 FR 9778 |
121 | Orders | 9/8/93 | 2/22/95, 60 FR 9778 |
122 | Appeals from Orders or Violations | 9/8/93 | 2/22/95, 60 FR 9778 |
123 | Status of Orders on Appeal | 9/8/93 | 2/22/95, 60 FR 9778 |
124 | Display of Orders | 9/8/93 | 2/22/95, 60 FR 9778 |
130 | Citations—Notices | 9/8/93 | 2/22/95, 60 FR 9778 |
131 | Violations—Notices | 9/8/93 | 2/22/95, 60 FR 9778 |
132 | Criminal Penalty | 11/13/94 | 10/24/95, 60 FR 54439 |
133 | Civil Penalty | 11/13/94 | 10/24/95, 60 FR 54439 |
134 | Restraining Orders—Injunction | 9/8/93 | 2/22/95, 60 FR 9778 |
135 | Additional Enforcement—Compliance Schedules | 9/8/93 | 2/22/95, 60 FR 9778 |
140 | Reporting by Government Agencies | 9/8/93 | 2/22/95, 60 FR 9778 |
145 | Motor Vehicle Owner Responsibility | 9/8/93 | 2/22/95, 60 FR 9778 |
150 | Pollutant Disclosure—Reporting by Air Containment Sources | 9/8/93 | 2/22/95, 60 FR 9778 |
180 | Sampling and Analytical Methods/References | 9/8/93 | 2/22/95, 60 FR 9778 |
Definitions
200 | Definitions | 11/13/94 | 10/24/95, 60 FR 54439 |
Control Procedures
300 | Notice of Construction When Required | 11/13/94 | 10/24/95, 60 FR 54439 |
301 | Information Required for Notice of Construction & Application for Approval, Public Notice, Public Hearing | 11/13/94 | 10/24/95, 60 FR 54439 |
302 | Issuance of Approval or Order | 11/13/94 | 10/24/95, 60 FR 54439 |
303 | Notice of Completion—Notice of Violation | 9/8/93 | 2/22/95, 60 FR 9778 |
310 | Approval to Operate Required | 9/8/93 | 2/22/95, 60 FR 9778 |
320 | Registration Required | 9/8/93 | 2/22/95, 60 FR 9778 |
321 | General Requirements for Registration | 9/8/93 | 2/22/95, 60 FR 9778 |
322 | Exemptions from Registration | 11/13/94 | 10/24/95, 60 FR 54439 |
323 | Classes of Registration | 9/8/93 | 2/22/95, 60 FR 9778 |
324 | Fees | 11/13/94 | 10/24/95, 60 FR 54439 | except section 324.121.
325 | Transfer | 9/8/93 | 2/22/95, 60 FR 9778 |
340 | Report of Breakdown and Upset | 11/13/94 | 10/24/95, 60 FR 54439 |
341 | Schedule Report of Shutdown or Start-Up | 9/8/93 | 2/22/95, 60 FR 9778 |
342 | Operation and Maintenance | 9/8/93 | 2/22/95, 60 FR 9778 |
360 | Testing and Sampling | 9/8/93 | 2/22/95, 60 FR 9778 |
365 | Monitoring | 9/8/93 | 2/22/95, 60 FR 9778 |
366 | Instrument Calibration | 9/8/93 | 2/22/95, 60 FR 9778 |
Standards
400 | Ambient Air Standards—Forward | 9/8/93 | 2/22/95, 60 FR 9778 |
401 | Suspended Particulate Standards (PM-10) | 9/8/93 | 2/22/95, 60 FR 9778 |
410 | Sulfur Oxide Standards | 9/8/93 | 2/22/95, 60 FR 9778 |
420 | Carbon Monoxide Standards | 9/8/93 | 2/22/95, 60 FR 9778 |
422 | Nitrogen Oxide Standards | 9/8/93 | 2/22/95, 60 FR 9778 |
424 | Ozone Standards | 9/8/93 | 2/22/95, 60 FR 9778 |
450 | Emission Standards—Forward | 9/8/93 | 2/22/95, 60 FR 9778 |
451 | Emission of Air Contaminant—Visual Standards | 11/13/94 | 10/24/95, 60 FR 54439 |
452 | Motor Vehicle Visual Standards | 9/8/93 | 2/22/95, 60 FR 9778 | except section 452.5.
455 | Emission of Particulate Matter | 9/8/93 | 2/22/95, 60 FR 9778 |
458 | Incinerators—Wood Waste Burners | 9/8/93 | 2/22/95, 60 FR 9778 |
460 | Weight/Heat Rate Standard—Emission of Sulfur Compounds | 9/8/93 | 2/22/95, 60 FR 9778 |
462 | Emission of Sulfur Compounds | 11/13/94 | 10/24/95, 60 FR 54439 |
466 | Portland Cement Plants | 9/8/93 | 2/22/95, 60 FR 9778 |
Regulated Activities and Prohibitions
510 | Incinerator Burning | 9/8/93 | 2/22/95, 60 FR 9778 |
520 | Sulfur Compounds in Fuel | 9/8/93 | 2/22/95, 60 FR 9778 |
550 | Particulate Matter from Becoming Airborne | 9/8/93 | 2/22/95, 60 FR 9778 |
560 | Storage of Organic Liquids | 9/8/93 | 2/22/95, 60 FR 9778 |
580 | Volatile Organic Compound Control (VOC) | 11/13/94 | 10/24/95, 60 FR 54439 |

Table 4—Puget Sound Clean Air Agency Regulations
State citation | Title/Subject | State adopted date | EPA Approval date | Explanations
Regulation I—Article 1: Policy, Short Title, and Definitions
1.01 | Policy | 9/9/99 | 8/31/04, 69 FR 53007 |
1.03 | Name of Agency | 9/9/99 | 8/31/04, 69 FR 53007 |
1.05 | Short Title | 9/9/99 | 8/31/04, 69 FR 53007 |
1.07 | Definitions | 4/14/94 | 6/29/95, 60 FR 33734 |
Regulation I—Article 3: General Provisions
3.04 | Reasonably Available Control Technology | 3/11/99 | 8/31/04, 69 FR 53007 | except (e).
3.06 | Credible Evidence | 10/8/98 | 8/31/04, 69 FR 53007 |
Regulation I—Article 5: Registration
5.02 | Applicability and Purpose of the Registration Program | 9/12/96 | 8/6/97, 62 FR 42216 |
5.03 | Registration Required | 7/8/99 | 8/31/04, 69 FR 53007 | except (a)(5).
5.05 | General Reporting Requirements for Registration | 9/10/98 | 8/31/04, 69 FR 53007 |
Regulation I—Article 6: New Source Review
6.03 | Notice of Construction | 9/12/96 | 8/6/97, 62 FR 42216 |
6.04 | Notice of Construction Review Fees | 9/11/97 | 4/21/98, 63 FR 19658 |
6.06 | Public Notice | 4/14/94 | 6/29/95, 60 FR 33734 |
6.07 | Order of Approval—Order to Prevent Construction | 4/14/94 | 6/29/95, 60 FR 33734 |
6.08 | Emission Reduction Credit Banking | 11/19/92 | 8/29/94, 59 FR 44324 |
6.09 | Notice of Completion | 4/14/94 | 6/29/95, 60 FR 33734 |
6.10 | Work Done without an Approval | 9/11/97 | 4/21/98, 63 FR 19658 |
Regulation I—Article 7: Operating Permits
7.09 | General Reporting Requirements for Operating Permits | 9/10/98 | 8/31/04, 69 FR 53007 |
Regulation I—Article 8: Outdoor Burning
8.04 | General Conditions for Outdoor Burning | 11/9/00 | 8/31/04, 69 FR 53007 |
8.05 | Agricultural Burning | 11/9/00 | 8/31/04, 69 FR 53007 |
8.06 | Outdoor Burning Ozone Contingency Measure | 12/19/02 | 8/5/04, 69 FR 47364 |
8.09 | Description of King County No-Burn Area | 11/9/00 | 8/31/04, 69 FR 53007 |
8.10 | Description of Pierce County No-Burn Area | 11/9/00 | 8/31/04, 69 FR 53007 |
8.11 | Description of Snohomish County No-Burn Area | 11/9/00 | 8/31/04, 69 FR 53007 |
8.12 | Description of Kitsap County No-Burn Area | 10/24/02 | 8/31/04, 69 FR 53007 |
Regulation I—Article 9: Emission Standards
9.03 | Emission of Air Contaminant: Visual Standard | 3/11/99 | 8/31/04, 69 FR 53007 | except (e).
9.04 | Opacity Standards for Equipment with Continuous Opacity Monitoring Systems | 4/9/98 | 8/31/04, 69 FR 53007 | except (d)(2) & (f).
9.05 | Refuse Burning | 12/9/93 | 6/29/95, 60 FR 33734 |
9.07 | Sulfur Dioxide Emission Standard | 4/14/94 | 6/29/95, 60 FR 33734 |
9.08 | Fuel Oil Standards | 4/14/94 | 6/29/95, 60 FR 33734 |
9.09 | Particulate Matter Emission Standards | 4/9/98 | 8/31/04, 69 FR 53007 |
9.15 | Fugitive Dust Control Measures | 3/11/99 | 8/31/04, 69 FR 53007 |
9.16 | Spray-Coating Operations | 7/12/01 | 8/31/04, 69 FR 53007 |
9.20 | Maintenance of Equipment | 6/9/88 | 8/29/94, 59 FR 44324 |
Regulation I—Article 12: Standards of Performance for Continuous Emission Monitoring Systems
12.01 | Applicability | 4/9/98 | 8/31/04, 69 FR 53007 |
12.03 | Continuous Emission Monitoring Systems | 4/9/98 | 8/31/04, 69 FR 53007 | except (b)(2).
Regulation I—Article 13: Solid Fuel Burning Device Standards
13.01 | Policy and Purpose | 9/9/99 | 8/31/04, 69 FR 53007 |
13.02 | Definitions | 10/8/98 | 8/31/04, 69 FR 53007 |
13.03 | Opacity Standards | 10/11/90 | 8/29/94, 59 FR 44324 |
13.04 | Prohibited Fuel Types | 9/26/91 | 8/29/94, 59 FR 44324 |
13.05 | Curtailment | 9/26/91 | 8/29/94, 59 FR 44324 |
13.07 | Contingency Plan | 12/8/94 | 10/26/95, 60 FR 54812 |
Regulation II—Article 1: Purpose, Policy, Short Title, and Definitions
1.01 | Purpose | 9/9/99 | 8/31/04, 69 FR 53007 |
1.02 | Policy | 9/9/99 | 8/31/04, 69 FR 53007 |
1.03 | Short Title | 9/9/99 | 8/31/04, 69 FR 53007 |
1.04 | General Definitions | 12/11/80 | 2/28/83, 48 FR 8273 |
1.05 | Special Definitions | 9/9/99 | 8/31/04, 69 FR 53007 |
Regulation II—Article 2: Gasoline Marketing Emission Standards
2.01 | Definitions | 7/8/99 | 8/31/04, 69 FR 53007 |
2.03 | Petroleum Refineries | 6/13/91 | 8/29/94, 59 FR 44324 |
2.05 | Gasoline Loading Terminals | 12/9/93 | 6/29/95, 60 FR 33734 |
2.06 | Bulk Gasoline Plants | 6/13/91 | 8/29/94, 59 FR 44324 |
2.07 | Gasoline Stations | 12/9/99 | 8/31/04, 69 FR 53007 |
2.08 | Gasoline Transport Tanks | 7/8/99 | 8/31/04, 69 FR 53007 |
2.09 | Oxygenated Gasoline Carbon Monoxide Contingency Measure and Fee Schedule | 12/19/02 | 8/5/04, 69 FR 47365 |
2.10 | Gasoline Station Ozone Contingency Measure | 12/19/02 | 8/5/04, 69 FR 47365 |
Regulation II—Article 3: Miscellaneous Volatile Organic Compound Emission Standards
3.01 | Cutback Asphalt Paving | 6/13/91 | 8/29/94, 59 FR 44324 |
3.02 | Volatile Organic Compound Storage Tanks | 7/8/99 | 8/31/04, 69 FR 53007 |
3.03 | Can and Paper Coating Operations | 2/10/94 | 6/29/95, 60 FR 33734 |
3.04 | Motor Vehicle and Mobile Equipment Coating Operations | 12/9/93 | 6/29/95, 60 FR 33734 |
3.05 | Graphic Arts Systems | 12/9/93 | 6/29/95, 60 FR 33734 |
3.08 | Polyester, Vinylester, Gelcoat, and Resin Operations | 12/9/93 | 6/29/95, 60 FR 33734 |
3.09 | Aerospace Component Coating Operations | 12/9/93 | 6/29/95, 60 FR 33734 |
3.11 | Coatings and Ink Manufacturing | 4/11/96 | 3/20/97, 62 FR 13331 |

Table 5—Spokane Regional Clean Air Agency Regulations
State citation | Title/Subject | State effective date | EPA Approval date | Explanations
Regulation I—Article VI—Emissions Prohibited
6.05 | Particulate Matter & Preventing Particulate Matter from becoming Airborne | 11/12/93 | 1/27/97, 62 FR 3800 |
6.14 | Standards for Control of Particulate Matter on Paved Surfaces | 2/13/99 | 4/12/99, 64 FR 17545 |
6.15 | Standards for Control of Particulate Matter on Unpaved Roads | 2/13/99 | 4/12/99, 64 FR 17545 |
6.16 | Motor Fuel Specifications for Oxygenated Gasoline | 7/6/95 | 9/22/97, 62 FR 49442 * | * correction: 12/31/97, 62 FR 68187.
Regulation I—Article VIII—Solid Fuel Burning Device Standards
8.01 | Purpose | 9/10/94 | 1/27/97, 62 FR 3800 |
8.02 | Applicability | 9/10/94 | 1/27/97, 62 FR 3800 |
8.03 | Definitions | 9/10/94 | 1/27/97, 62 FR 3800 |
8.04 | Emission Performance Standards | 9/10/94 | 1/27/97, 62 FR 3800 |
8.05 | Opacity Standards | 9/10/94 | 1/27/97, 62 FR 3800 |
8.06 | Prohibited Fuel Types | 9/10/94 | 1/27/97, 62 FR 3800 |
8.07 | Curtailment | 9/10/94 | 1/27/97, 62 FR 3800 |
8.08 | Exemptions | 9/10/94 | 1/27/97, 62 FR 3800 |
8.09 | Procedure to Geographically Limit Solid Fuel Burning Devices | 9/10/94 | 1/27/97, 62 FR 3800 |
8.10 | Restrictions on Installation of Solid Fuel Burning Devices | 9/10/94 | 1/27/97, 62 FR 3800 |
8.11 | Regulatory Actions and Penalties | 9/10/94 | 1/27/97, 62 FR 3800 |
Regulation II—Article IV—Emissions Prohibited
4.01 | Particulate Emissions—Grain Loading Restrictions | 4/26/79 | 6/5/80, 45 FR 37821 |

Table 6—Southwest Clean Air Agency Regulations
State citation | Title/Subject | State effective date | EPA Approval date | Explanations
General Regulations for Air Pollution Sources
400-010 | Policy and Purpose | 9/21/95 | 2/26/97, 62 FR 8624 |
400-020 | Applicability | 9/21/95 | 2/26/97, 62 FR 8624 |
400-030 | Definitions | 11/21/96 | 5/19/97, 62 FR 27204 | except 2nd sentence in two subsections (14) & (49), subsection (84).
400-040 | General Standards for Maximum Emissions | 9/21/95 | 2/26/97, 62 FR 8624 | except (1)(c), and (1)(d), (2), (4), and the exception provision of (6)(a).
400-050 | Emission Standards for Combustion and Incineration Units | 9/21/95 | 2/26/97, 62 FR 8624 | except the exception provision in (3).
400-052 | Stack Sampling of Major Combustion Sources | 9/21/95 | 2/26/97, 62 FR 8624 |
400-060 | Emission Standards for General Process Units | 9/21/95 | 2/26/97, 62 FR 8624 |
400-070 | Emission Standards for Certain Source Categories | 9/21/95 | 2/26/97, 62 FR 8624 | except (5).
400-074 | Gasoline Transport Tankers | 9/21/95 | 2/26/97, 62 FR 8624 |
400-081 | Startup and Shutdown | 9/21/95 | 2/26/97, 62 FR 8624 |
400-090 | Voluntary Limits on Emissions | 11/8/93 | 5/3/95, 60 FR 21703 |
400-091 | Voluntary Limits on Emissions | 9/21/95 | 2/26/97, 62 FR 8624 |
400-100 | Registration and Operating Permits | 9/21/95 | 2/26/97, 62 FR 8624 | except the first sentence of (3)(a)(iv) & (4).
400-101 | Sources Exempt from Registration Requirements | 11/21/96 | 5/19/97, 62 FR 27204 |
400-105 | Records, Monitoring and Reporting | 9/21/95 | 2/26/97, 62 FR 8624 |
400-107 | Excess Emissions | 9/21/95 | 2/26/97, 62 FR 8624 |
400-109 | Notice of Construction Application | 11/21/96 | 5/19/97, 62 FR 27204 | except subsections (3)(b), (3)(c), (3)(g), (3)(h), (3)(i).
400-110 | New Source Review | 11/21/96 | 5/19/97, 62 FR 27204 |
400-111 | Requirements for Sources in a Maintenance Plan Area | 11/21/96 | 5/19/97, 62 FR 27204 |
400-112 | Requirements for New Sources in Nonattainment Areas | 11/21/96 | 5/19/97, 62 FR 27204 |
400-113 | Requirements for New Sources in Attainment or Nonclassifiable Areas | 11/21/96 | 5/19/97, 62 FR 27204 |
400-114 | Requirements for Replacement or Substantial Alteration for Emission Control Technology at an Existing Stationary Source | 11/21/96 | 5/19/97, 62 FR 27204 |
400-116 | Maintenance of Equipment | 11/21/96 | 5/19/97, 62 FR 27204 |
400-151 | Retrofit Requirements for Visibility Protection | 9/21/95 | 2/26/97, 62 FR 8624 |
400-161 | Compliance Schedules | 9/21/95 | 2/26/97, 62 FR 8624 |
400-171 | Public Involvement | 9/21/95 | 2/26/97, 62 FR 8624 |
400-190 | Requirements for Nonattainment Areas | 11/21/96 | 5/19/97, 62 FR 27204 |
400-200 | Creditable Stack Height & Dispersion Techniques | 9/21/95 | 2/26/97, 62 FR 8624 |
400-205 | Adjustment for Atmospheric Conditions | 9/21/95 | 2/26/97, 62 FR 8624 |
400-210 | Emission Requirements of Prior Jurisdictions | 9/21/95 | 2/26/97, 62 FR 8624 |
400-220 | Requirements for Board Members | 9/21/95 | 2/26/97, 62 FR 8624 |
400-230 | Regulatory Actions & Civil Penalties | 9/21/95 | 2/26/97, 62 FR 8624 |
400-240 | Criminal Penalties | 9/21/95 | 2/26/97, 62 FR 8624 |
400-250 | Appeals | 9/21/95 | 2/26/97, 62 FR 8624 |
400-260 | Conflict of Interest | 9/21/95 | 2/26/97, 62 FR 8624 |
400-270 | Confidentiality of Records & Information | 9/21/95 | 2/26/97, 62 FR 8624 |
400-280 | Powers of Authority | 9/21/95 | 2/26/97, 62 FR 8624 |
Emission Standards and Controls for Sources Emitting Volatile Organic Compounds
490-010 | Policy and Purpose | 11/21/96 | 5/19/97, 62 FR 27204 |
490-020 | Definitions | 11/21/96 | 5/19/97, 62 FR 27204 |
490-025 | General Applicability | 11/21/96 | 5/19/97, 62 FR 27204 |
490-030 | Registration and Reporting | 11/21/96 | 5/19/97, 62 FR 27204 |
490-040 | Requirements | 11/21/96 | 5/19/97, 62 FR 27204 |
490-080 | Exceptions & Alternative Methods | 11/21/96 | 5/19/97, 62 FR 27204 |
490-090 | New Source Review | 11/21/96 | 5/19/97, 62 FR 27204 |
490-200 | Petroleum Refinery Equipment Leaks | 11/21/96 | 5/19/97, 62 FR 27204 |
490-201 | Petroleum Liquid Storage in External Floating Roof Tanks | 11/21/96 | 5/19/97, 62 FR 27204 |
490-202 | Leaks from Gasoline Transport Tanks and Vapor Collection Systems | 11/21/96 | 5/19/97, 62 FR 27204 |
490-203 | Perchloroethylene Dry Cleaning Systems | 11/21/96 | 5/19/97, 62 FR 27204 |
490-204 | Graphic Arts Systems | 11/21/96 | 5/19/97, 62 FR 27204 |
490-205 | Surface Coating of Miscellaneous Metal Parts and Products | 11/21/96 | 5/19/97, 62 FR 27204 |
490-207 | Surface Coating of Flatwood Paneling | 11/21/96 | 5/19/97, 62 FR 27204 |
490-208 | Aerospace Assembly & Component Coating Operations | 11/21/96 | 5/19/97, 62 FR 27204 |
Emissions Standards and Controls for Sources Emitting Gasoline Vapors
491-010 | Policy and Purpose | 11/21/96 | 5/19/97, 62 FR 27204 |
491-015 | Applicability | 11/21/96 | 5/19/97, 62 FR 27204 |
491-020 | Definitions | 11/21/96 | 5/19/97, 62 FR 27204 |
491-030 | Registration | 11/21/96 | 5/19/97, 62 FR 27204 |
491-040 | Gasoline Vapor Control Requirements | 11/21/96 | 5/19/97, 62 FR 27204 |
491-050 | Failures, Certification, Testing & Recordkeeping | 11/21/96 | 5/19/97, 62 FR 27204 |
491-060 | Severability | 11/21/96 | 5/19/97, 62 FR 27204 |
Oxygenated Fuels
492-010 | Policy and Purpose | 11/21/96 | 4/30/97, 62 FR 23363 |
492-020 | Applicability | 11/21/96 | 4/30/97, 62 FR 23363 |
492-030 | Definitions | 11/21/96 | 4/30/97, 62 FR 23363 |
492-040 | Compliance Requirements | 11/21/96 | 4/30/97, 62 FR 23363 |
492-050 | Registration Requirements | 11/21/96 | 4/30/97, 62 FR 23363 |
492-060 | Labeling Requirements | 11/21/96 | 4/30/97, 62 FR 23363 |
492-070 | Control Area and Control Period | 11/21/96 | 4/30/97, 62 FR 23363 |
492-080 | Enforcement and Compliance | 11/21/96 | 4/30/97, 62 FR 23363 |
492-090 | Unplanned Conditions | 11/21/96 | 4/30/97, 62 FR 23363 |
492-100 | Severability | 11/21/96 | 4/30/97, 62 FR 23363 |
VOC Area Source Rules
493-100 | Consumer Products (Reserved) | 05/26/96 | 5/19/97, 62 FR 27204 |
493-200-010 | Applicability | 05/26/96 | 5/19/97, 62 FR 27204 |
493-200-020 | Definitions | 05/26/96 | 5/19/97, 62 FR 27204 |
493-200-030 | Spray Paint Standards & Exemptions | 05/26/96 | 5/19/97, 62 FR 27204 |
493-200-040 | Requirements for Manufacture, Sale and Use of Spray Paint | 05/26/96 | 5/19/97, 62 FR 27204 |
493-200-050 | Recordkeeping & Reporting Requirements | 05/26/96 | 5/19/97, 62 FR 27204 |
493-200-060 | Inspection and Testing Requirements | 05/26/96 | 5/19/97, 62 FR 27204 |
493-300-010 | Applicability | 5/26/96 | 5/19/97, 62 FR 27204 |
493-300-020 | Definitions | 5/26/96 | 5/19/97, 62 FR 27204 |
493-300-030 | Standards | 5/26/96 | 5/19/97, 62 FR 27204 |
493-300-040 | Requirements for Manufacture, Sale and Use of Architectural Coatings | 5/26/96 | 5/19/97, 62 FR 27204 |
493-300-050 | Recordkeeping & Reporting Requirements | 5/26/96 | 5/19/97, 62 FR 27204 |
493-300-060 | Inspection and Testing Requirements | 5/26/96 | 5/19/97, 62 FR 27204 |
493-400-010 | Applicability | 05/26/96 | 5/19/97, 62 FR 27204 |
493-400-020 | Definitions | 05/26/96 | 5/19/97, 62 FR 27204 |
493-400-030 | Coating Standards & Exemptions | 05/26/96 | 5/19/97, 62 FR 27204 |
493-400-040 | Requirements for Manufacture & Sale of Coating | 05/26/96 | 5/19/97, 62 FR 27204 |
493-400-050 | Requirements for Motor Vehicle Refinishing in Vancouver AQMA | 05/26/96 | 5/19/97, 62 FR 27204 |
493-400-060 | Recordkeeping and Reporting Requirements | 05/26/96 | 5/19/97, 62 FR 27204 |
493-400-070 | Inspection & Testing Requirements | 05/26/96 | 5/19/97, 62 FR 27204 |
493-500-010 | Applicability | 05/26/96 | 5/19/97, 62 FR 27204 |
493-500-020 | Compliance Extensions | 05/26/96 | 5/19/97, 62 FR 27204 |
493-500-030 | Exemption from Disclosure to the Public | 05/26/96 | 5/19/97, 62 FR 27204 |
493-500-040 | Future Review | 05/26/96 | 5/19/97, 62 FR 27204 |

Table 7—Yakima Regional Clean Air Agency Regulations
State citation | Title/Subject | State effective date | EPA Approval date | Explanations
Article I—Policy, Short Title and Definitions
1.01 | Policy | 12/15/95 | 2/2/98, 63 FR 5269 |
1.02 | Short Title | 11/18/93 | 2/2/98, 63 FR 5269 |
1.03 | Definitions | 12/15/95 | 2/2/98, 63 FR 5269 |
Article II—General Provisions
2.02 | Control Officer—Powers & Duties | 11/18/93 | 2/2/98, 63 FR 5269 |
2.03 | Miscellaneous Provisions | 11/18/93 | 2/2/98, 63 FR 5269 |
2.04 | Confidentiality | 11/18/93 | 2/2/98, 63 FR 5269 |
2.05 | Advisory Council | 11/18/93 | 2/2/98, 63 FR 5269 |
Article III—Violations—Orders and Hearings
3.01 | Notice of Violation—Corrective Action Hearings | 11/18/93 | 2/2/98, 63 FR 5269 |
3.02 | Finality of Order | 11/18/93 | 2/2/98, 63 FR 5269 |
3.03 | Stay of Order Pending Appeal | 11/18/93 | 2/2/98, 63 FR 5269 |
3.04 | Voluntary Compliance | 11/18/93 | 2/2/98, 63 FR 5269 |
Article IV—Registration and Notice of Construction
4.01 | Registration | 12/15/95 | 2/2/98, 63 FR 5269 |
4.02 | Notice of Construction | 12/15/95 | 2/2/98, 63 FR 5269 |
4.03 | Exceptions to Article 4 | 11/18/93 | 2/2/98, 63 FR 5269 |
Article V—Emissions Standards and Preventative Measures
5.01 | Outdoor Burning | 12/15/95 | 2/2/98, 63 FR 5269 |
5.02 | Regulations Applicable to all Outdoor Burning | 12/15/95 | 2/2/98, 63 FR 5269 |
5.03 | Regulations Applicable to all Outdoor Burning within Jurisdiction of the Yakima County Clean Air Authority, Local Cities, Towns, Fire Protection Districts and Conservation Districts | 12/15/95 | 2/2/98, 63 FR 5269 |
5.04 | Regulations Applicable to Permits Issued by the Yakima County Clean Air Authority for all Other Outdoor Burning | 12/15/95 | 2/2/98, 63 FR 5269 |
5.05 | Additional Restrictions on Outdoor Burning | 12/15/95 | 2/2/98, 63 FR 5269 |
5.06 | General Standards for Maximum Permissible Emissions | 12/15/95 | 2/2/98, 63 FR 5269 |
5.07 | Minimum Emission Standards for Combustion and Incineration Sources | 12/15/95 | 2/2/98, 63 FR 5269 |
5.08 | Minimum Emissions Standards for General Process Sources | 12/15/95 | 2/2/98, 63 FR 5269 |
5.10 | Sensitive Area Designation | 6/20/94 | 2/2/98, 63 FR 5269 |
5.11 | Monitoring and Special Reporting | 12/15/95 | 2/2/98, 63 FR 5269 |
5.12 | Preventive Measures | 11/18/93 | 2/2/98, 63 FR 5269 |
Article VIII—Penalty and Severability
8.01 | Penalty for Violation | 11/18/93 | 2/2/98, 63 FR 5269 |
8.02 | Additional/Alternative Penalties | 12/15/95 | 2/2/98, 63 FR 5269 |
8.03 | Assurance of Discontinuance | 11/18/93 | 2/2/98, 63 FR 5269 |
8.04 | Restraining Order—Injunctions | 11/18/93 | 2/2/98, 63 FR 5269 |
8.05 | Severability | 12/15/95 | 2/2/98, 63 FR 5269 |
Article IX—Woodstoves and Fireplaces
9.01 | Policy | 11/18/93 | 2/2/98, 63 FR 5269 |
9.02 | Opacity | 11/18/93 | 2/2/98, 63 FR 5269 |
9.03 | Prohibitive Fuel Types | 11/18/93 | 2/2/98, 63 FR 5269 |
9.04 | Limitations of Sales of Solid Fuel Burning Devices | 11/18/93 | 2/2/98, 63 FR 5269 |
9.05 | Prohibition of Visible Emissions During Air Pollution Episodes | 12/15/95 | 2/2/98, 63 FR 5269 |
Article XII—Adoption of State and Federal Regulations
12.01 | State Regulations | 12/15/95 | 2/2/98, 63 FR 5269 |
Article XIII—Fee Schedules and Other Charges
13.01 | Registration and Fee Schedule | 1/13/94 | 2/2/98, 63 FR 5269 |
13.02 | Notice of Construction Fee Schedule | 6/20/94 | 2/2/98, 63 FR 5269 |
13.03 | Outdoor Burning Permit Fees | 6/20/94 | 2/2/98, 63 FR 5269 |

(d) EPA-Approved State Source-Specific Requirements.

EPA-Approved State of Washington Source-Specific Requirements
Name of source | Order/Permit number | State effective date | EPA Approval date | Explanation
IBP (now known as Tyson Foods, Inc.) | 02AQER-5074 | 12/6/02 | 5/2/05 70 FR 22597 | except finding number 4 (T-BACT) & 3.3 of approval condition #3 (Emission Limits & Test Methods).
Boise White Paper LLC Permit | 000369-7 | 12/1/04 | 5/2/05 70 FR 22597 | following condition only: 1.Q.1 of item Q.
Boise Cascade, Wallula Mill | 1614-AQ04 | 9/15/04 | 5/2/05 70 FR 22597 | following conditions only: No. 1 (Approval Conditions) & Appendix A.
Fugitive Dust Control Plan for Simplot Feeders Limited Partnership |  | 12/1/03 | 5/2/05 70 FR 22597 |
Emission Limits for Significant Stack Sources | various orders | various dates | 10/26/95 60 FR 54812 |
Honam, Inc., Ideal Division (now known as LaFarge North America, Inc.) | #5183 | 2/9/94 | 8/31/04 69 FR 53007 |
Saint Gobain Containers LLC | #8244 | 9/9/99 | 8/31/04 69 FR 53007 |
Kaiser Order—Alternate Opacity Limit | 91-01 | 12/12/91 | 1/27/97 62 FR 3800 |
Kaiser Order—Limiting Potential-to-Emit | 96-03 | 10/4/00 | 7/1/05 70 FR 38029 |
Kaiser Order—Limiting Potential-to-Emit | 96-04 | 4/24/96 | 1/27/97 62 FR 3800 |
Kaiser Order—Limiting Potential-to-Emit | 96-05 | 10/4/00 | 7/1/05 70 FR 38029 |
Kaiser Order—Limiting Potential-to-Emit | 96-06 | 10/19/00 | 7/1/05 70 FR 38029 |
Kaiser Order | DE 01 AQIS-3285 | 10/24/01 | 5/12/05 70 FR 24991 |
Kaiser Order Amendment #1 | DE 01 AQIS-3285 | 4/9/03 | 5/12/05 70 FR 24991 |
RACT Limits for Centralia Power Plant | #97-2057R1 | 2/26/98 | 6/11/03 68 FR 34821 |
TransAlta Centralia BART | #6426 | 12/13/11 | 12/6/12 77 FR 72742 | except the undesignated introductory text, the section titled “Findings,” and the undesignated text following condition 13.

(e) EPA Approved Nonregulatory Provisions and Quasi-Regulatory Measures.

State of Washington Nonregulatory Provisions and Quasi-Regulatory Measures
Name of SIP provision | Applicable geographic or nonattainment area | State submittal date | EPA approval date | Comments
Attainment and Maintenance Planning—Carbon Monoxide
Carbon Monoxide Attainment Plan | Yakima | 4/27/79 | 6/5/80 45 FR 37821 |
Carbon Monoxide Attainment Plan | Puget Sound | 1/22/93 | 1/20/94 59 FR 2994 |
Carbon Monoxide Attainment Plan | Spokane | 1/22/93 | 1/20/94 59 FR 2994 |
Carbon Monoxide Attainment Plan | Vancouver | 1/22/93 | 1/20/94 59 FR 2994 |
Carbon Monoxide Attainment Plan—Contingency Measure | Vancouver | 11/10/93 | 10/31/94 59 FR 54419 |
Carbon Monoxide Attainment Plan—VMT Supplement | Puget Sound | 1/22/93 | 8/23/95 60 FR 43710 |
Carbon Monoxide Maintenance Plan | Puget Sound | 2/29/96 | 10/11/96 61 FR 53323 |
Carbon Monoxide Maintenance Plan | Vancouver | 3/19/96 | 10/21/96 61 FR 54560 |
Carbon Monoxide Attainment Plan—Revisions | Spokane | 9/14/93 and 4/30/96 | 9/22/97 62 FR 49442 |
Carbon Monoxide Attainment Plan—Correction | Spokane |  | 12/31/97 62 FR 68187 |
Carbon Monoxide Maintenance Plan | Yakima | 9/26/01 | 11/01/02 67 FR 66555 |
Carbon Monoxide Maintenance Plan 10-Year Update | Puget Sound | 12/17/03 | 8/5/04 69 FR 47365 |
Carbon Monoxide Attainment Plan—Including Kaiser Orders | Spokane | 9/20/01 and 11/22/04 | 5/12/05 70 FR 24991 |
Carbon Monoxide Maintenance Plan | Spokane | 11/29/04 | 6/29/05 70 FR 37269 |
Carbon Monoxide Maintenance Plan 10-Year Update | Vancouver | 4/25/07 | 6/27/08 73 FR 36439 |
Attainment and Maintenance Planning—Lead (Pb)
Lead Attainment Plan | Seattle | 9/27/84 | 1/29/85 50 FR 3907 |
Attainment and Maintenance Planning—Ozone
Ozone Attainment Plan | Vancouver | 7/16/82 | 12/17/82 47 FR 56497 |
Ozone Attainment Plan | Seattle-Tacoma | 7/16/82 | 2/28/83 48 FR 8273 |
Ozone Attainment Plan—VOC RACT | Seattle-Tacoma | 5/14/91 | 7/12/93 58 FR 37426 |
Ozone Attainment Plan—VOC RACT | Vancouver | 5/14/91 | 7/12/93 58 FR 37426 |
Ozone Attainment Plan—Emission Statement Program | Seattle-Tacoma | 1/28/93 | 9/12/94 59 FR 46764 |
Ozone Attainment Plan—Emission Statement Program | Vancouver | 1/28/93 | 9/12/94 59 FR 46764 |
Ozone Maintenance Plan | Seattle-Tacoma | 3/4/96 | 9/26/96 21 FR 50438 |
Ozone Maintenance Plan | Vancouver | 6/13/96 | 5/19/97 62 FR 27204 |
Ozone Maintenance Plan 10-Year Update | Seattle-Tacoma | 12/17/03 | 8/5/04 69 FR 47365 |
Attainment and Maintenance Planning—Particulate Matter
Particulate Matter (PM10) Attainment Plan | Kent | 11/15/91 | 7/27/93 58 FR 40059 |
Particulate Matter (PM10) Attainment Plan | Thurston County | 2/17/89 and 11/15/91 | 7/27/93 58 FR 40056 |
Particulate Matter (PM10) Attainment Plan | Tacoma | 5/2/95 | 10/25/95 60 FR 54559 |
Particulate Matter (PM10) Attainment Plan | Seattle | 2/21/95 | 10/26/95 60 FR 54812 |
Particulate Matter (PM10) Attainment Plan | Spokane | 12/9/94 | 1/27/97 62 FR 3800 |
Particulate Matter (PM10) Attainment Plan | Wallula | 11/13/91 | 1/27/97 62 FR 3800 |
Particulate Matter (PM10) Attainment Plan | Yakima | 3/24/89 | 2/2/98 63 FR 5269 |
Particulate Matter (PM10) Maintenance Plan | Thurston County | 8/16/99 | 10/4/00 65 FR 59128 |
Particulate Matter (PM10) Maintenance Plan | Kent | 8/23/99 | 3/13/01 66 FR 14492 |
Particulate Matter (PM10) Maintenance Plan | Seattle | 8/23/99 | 3/13/01 66 FR 14492 |
Particulate Matter (PM10) Maintenance Plan | Tacoma | 8/23/99 | 3/13/01 66 FR 14492 |
Particulate Matter (PM10) Maintenance Plan | Yakima | 7/8/04 | 2/8/05 70 FR 6591 |
Particulate Matter (PM10) Attainment Plan—Revision | Wallula | 11/30/04 | 5/2/05 70 FR 22597 |
Particulate Matter (PM10) Maintenance Plan | Spokane | 11/30/04 | 7/1/05 70 FR 38029 |
Particulate Matter (PM10) Maintenance Plan | Wallula | 3/29/05 | 8/26/05 70 FR 50212 |
Particulate Matter (PM2.5) Clean Data Determination | Tacoma, Pierce County | 05/22/12 | 09/04/12 77 FR 53772 |
Visibility and Regional Haze Plans
Visibility New Source Review (NSR) for non-attainment areas for Washington | Statewide |  | 6/26/86 51 FR 23228 |
Washington State Visibility Protection Program | Statewide | 11/5/99 | 6/11/03 68 FR 34821 |
Regional Haze State Implementation Plan—TransAlta BART | Statewide | 12/29/11 | 12/6/12 77 FR 72742 |
110(a)(2) Infrastructure and Interstate Transport
Interstate Transport for the 1997 8-Hour Ozone and PM2.5 NAAQS | Statewide | 1/17/07 | 1/13/09 74 FR 1591 |
110(a)(2) Infrastructure Requirements—1997 ozone standard | Statewide | 1/24/12 | 5/24/12 77 FR 30902 |
Other Federally Mandated Plans
Oxygenated Gasoline Program |  | 1/22/93 | 1/20/94 59 FR 2994 |
Business Assistance Program |  | 11/16/92 | 3/8/95 60 FR 12685 |
Motor Vehicle Inspection & Maintenance Program |  | 8/21/95 | 9/25/96 61 FR 50235 |
Supplementary Documents
Air Quality Monitoring, Data Reporting and Surveillance Provisions |  | 4/15/81 |  |
Energy Facilities Site Evaluation Council (EFSEC) Memorandum of Agreement |  | 2/23/82 |  |

3. Amend the newly designated § 52.2477 by revising the section heading and paragraph (a) to read as follows:

§ 52.2477 Original identification of plan section.

(a) This section identified the original “Air Quality Implementation Plan for the State of Washington” and all revisions submitted by Washington that were federally approved prior to December 7, 2012.

* * * * *

§ 52.2479 [Removed and reserved]

4. Remove and reserve § 52.2479.

§ 52.2491 [Removed and reserved]

5. Remove and reserve § 52.2491.

§ 52.2499 [Removed and reserved]

6. Remove and reserve § 52.2499.

[FR Doc. 2013-06310 Filed 3-19-13; 8:45 am]

BILLING CODE 6560-50-P